LEGAL SERVICES CORPORATION

45 CFR Parts 1610 and 1630

Use of Non-LSC Funds, Transfers of LSC Funds, Program Integrity; Cost Standards and Procedures; Extension of Comment Period

AGENCY: Legal Services Corporation.

ACTION: Further notice of proposed rulemaking; Extension of comment period.

SUMMARY: The Legal Services Corporation (“LSC”) issued a proposed rule in the Federal Register of February 10, 2020, concerning proposed amendments to its regulations governing cost standards and procedures. This notice extends the comment period until May 15, 2020.

DATES: For the proposed rule published on February 10, 2020 (85 FR 7518), comments must be submitted by May 15, 2020.

ADDRESSES: You may submit comments by any of the following methods:

Email: lscrulemaking@lsc.gov. Include “Parts 1610/1630 Rulemaking” in the subject line of the message.

Fax, U.S. Mail, Hand Delivery, or Courier: Please call 202-295-1623 for instructions if you need to send materials by one of these methods.

Instructions: Electronic submissions are preferred via email with attachments in Acrobat PDF format. LSC may not consider written comments sent via any other method or received after the end of the comment period.

FOR FURTHER INFORMATION CONTACT: Mark Freedman, Senior Associate General Counsel, Legal Services Corporation, 3333 K Street NW, Washington, DC 20007, (202) 295-1623 (phone), (202) 337-6519 (fax), mfreedman@lsc.gov.

SUPPLEMENTARY INFORMATION: LSC is extending the public comment period stated in the Federal Register notice for this rulemaking. 85 FR 7518, Feb. 10, 2020. In that notice, LSC proposed amendments to its regulations governing its cost standards and procedures (45 CFR part 1630). The comment period closed on March 26, 2020. However, many of LSC's grantees are concentrating on providing necessary legal assistance to low-income Americans experiencing the effects of state and federal responses to the COVID-19 pandemic. To allow them to focus on their mission, LSC is extending the deadline for comments on the proposed changes until May 15, 2020.

Dated: April 2, 2020.
Stefanie Davis
Senior Assistant General Counsel.

[FR Doc. 2020-07319 Filed 4-13-20; 8:45 am]

BILLING CODE 7050-01-P